DEPARTMENT OF ENERGY

Federal Energy Regulatory Commission

Combined Notice of Filings #1

Take notice that the Commission received the following electric corporate filings:

Docket Numbers: EC22-16-000.

Applicants: Energy Center Paxton LLC, KKR Thor Bidco, LLC.

Description: Supplement to November 15, 2021 Application for Authorization Under Section 203 of the Federal Power Act of Energy Center Paxton LLC.

Filed Date: 12/3/21.

Accession Number: 20211203-5256.

Comment Date: 5 p.m. ET 12/17/21.

Take notice that the Commission received the following electric rate filings:

Docket Numbers: ER22-46-002.

Applicants: Parkway Generation Essex, LLC.

Description: Tariff Amendment: Response to Deficiency Letter to be effective 12/1/2021.

Filed Date: 12/6/21.

Accession Number: 20211206-5176.

Comment Date: 5 p.m. ET 12/27/21.

Docket Numbers: ER22-87-001.

Applicants: Southwest Power Pool, Inc., Basin Electric Power Cooperative.

Description: Tariff Amendment: Southwest Power Pool, Inc. submits tariff filing per 35.17(b): 3843 Basin/Saskatchewan Power Corp Inter Agr-Amended Filing to be effective 12/15/2021.

Filed Date: 12/3/21.

Accession Number: 20211203-5239.

Comment Date: 5 p.m. ET 12/27/21.

Docket Numbers: ER22-94-001.

Applicants: Basin Electric Power Cooperative.

Description: Tariff Amendment: Basin Electric Submission of Amendment to Interconnection Agreement in ER22-94 to be effective 7/10/2020.

Filed Date: 12/6/21.

Accession Number: 20211206-5150.

Comment Date: 5 p.m. ET 12/27/21.

Docket Numbers: ER22-541-000.

Applicants: NSF Chaumont Site 1 LLC, Bracewell LLP.

Description: Baseline eTariff Filing: NSF Chaumont Site 1 LLC submits tariff filing per 35.12: Application for Market-Based Rate Authorization, Request for Related Waivers to be effective 12/17/2021.

Filed Date: 12/3/21.

Accession Number: 20211203-5206.

Comment Date: 5 p.m. ET 12/27/21.

Docket Numbers: ER22-542-000.

Applicants: NSF Chaumont Site 2 LLC, Bracewell LLP.

Description: Baseline eTariff Filing: NSF Chaumont Site 2 LLC submits tariff filing per 35.12: Application for Market-Based Rate Authorization, Request for Related Waivers to be effective 12/17/2021.

Filed Date: 12/3/21.

Accession Number: 20211203-5215.

Comment Date: 5 p.m. ET 12/27/21.

Docket Numbers: ER22-543-000.

Applicants: NSF Chaumont Site 3 LLC, Bracewell LLP.

Description: Baseline eTariff Filing: NSF Chaumont Site 3 LLC submits tariff filing per 35.12: Application for Market-Based Rate Authorization, Request for Related Waivers to be effective 12/17/2021.

Filed Date: 12/3/21.

Accession Number: 20211203-5220.

Comment Date: 5 p.m. ET 12/27/21.

Docket Numbers: ER22-544-000.

Applicants: NSF Chaumont Site 4 LLC, Bracewell LLP.

Description: Baseline eTariff Filing: NSF Chaumont Site 4 LLC submits tariff filing per 35.12: Application for Market-Based Rate Authorization, Request for Related Waivers to be effective 12/17/2021.

Filed Date: 12/3/21.

Accession Number: 20211203-5225.

Comment Date: 5 p.m. ET 12/27/21.

Docket Numbers: ER22-545-000.

Applicants: NSF Chaumont Site 5 LLC, Bracewell LLP.

Description: Baseline eTariff Filing: NSF Chaumont Site 5 LLC submits tariff filing per 35.12: Application for Market-Based Rate Authorization, Request for Related Waivers to be effective 12/17/2021.

Filed Date: 12/3/21.

Accession Number: 20211203-5229.

Comment Date: 5 p.m. ET 12/27/21.

Docket Numbers: ER22-546-000.

Applicants: PacifiCorp.

Description: § 205(d) Rate Filing: Rock Creek Provisional Large Gen Interconnection Agrmt to be effective 12/2/2021.

Filed Date: 12/3/21.

Accession Number: 20211203-5231.

Comment Date: 5 p.m. ET 12/27/21.

Docket Numbers: ER22-547-000.

Applicants: Tri-State Generation and Transmission Association, Inc.

Description: § 205(d) Rate Filing: Service Agreement No. 901 to be effective 11/19/2020.

Filed Date: 12/3/21.

Accession Number: 20211203-5235.

Comment Date: 5 p.m. ET 12/27/21.

Docket Numbers: ER22-548-000.

Applicants: PJM Interconnection, L.L.C.

Description: § 205(d) Rate Filing: Revisions to OATT, Behind the Meter Generation Business Rules on Status Changes to be effective 2/2/2022.

Filed Date: 12/3/21.

Accession Number: 20211203-5244.

Comment Date: 5 p.m. ET 12/27/21.

Docket Numbers: ER22-549-000.

Applicants: The Valence Group, LLC.

Description: Baseline eTariff Filing: Application For Market Based Rate Authority to be effective 12/15/2021.

Filed Date: 12/6/21.

Accession Number: 20211206-5000.

Comment Date: 5 p.m. ET 12/27/21.

Docket Numbers: ER22-550-000.

Applicants: Chambersburg Energy, LLC.

Description: § 205(d) Rate Filing: Filing of Letter Agreement and Requests for Waivers to be effective 1/25/2022.

Filed Date: 12/6/21.

Accession Number: 20211206-5001.

Comment Date: 5 p.m. ET 12/27/21.

Docket Numbers: ER22-551-000.

Applicants: Rockford Power, LLC.

Description: § 205(d) Rate Filing: Filing of Letter Agreement and Requests for Waivers to be effective 1/25/2022.

Filed Date: 12/6/21.

Accession Number: 20211206-5002.

Comment Date: 5 p.m. ET 12/27/21.

Docket Numbers: ER22-552-000.

Applicants: Rockford Power II, LLC.

Description: § 205(d) Rate Filing: Filing of Letter Agreements and Requests for Waivers to be effective 1/25/2022.

Filed Date: 12/6/21.

Accession Number: 20211206-5003.

Comment Date: 5 p.m. ET 12/27/21.

Docket Numbers: ER22-553-000.

Applicants: Troy Energy, LLC.

Description: § 205(d) Rate Filing: Filing of Letter Agreement and Requests for Waivers to be effective 1/25/2022.

Filed Date: 12/6/21.

Accession Number: 20211206-5004.

Comment Date: 5 p.m. ET 12/27/21.

Docket Numbers: ER22-554-000.

Applicants: LSP University Park, LLC.

Description: § 205(d) Rate Filing: Filing of Letter Agreement and Requests for Waivers to be effective 1/25/2022.

Filed Date: 12/6/21.

Accession Number: 20211206-5005.

Comment Date: 5 p.m. ET 12/27/21.

Docket Numbers: ER22-555-000.

Applicants: University Park Energy, LLC.

Description: § 205(d) Rate Filing: Filing of Letter Agreement and Requests for Waivers to be effective 1/25/2022.

Filed Date: 12/6/21.

Accession Number: 20211206-5006.

Comment Date: 5 p.m. ET 12/27/21.

Docket Numbers: ER22-556-000.

Applicants: ISO New England Inc. & New England Power Pool.

Description: ISO New England Inc. and New England Power Pool filing of Installed Capacity Requirements, Hydro-Quebec Interconnection Capability Credits and Related Values for 2022-2023, 2023-2024 and 2024-2025 Annual Reconfiguration Auction.

Filed Date: 11/30/21.

Accession Number: 20211130-5348.

Comment Date: 5 p.m. ET 12/21/21.

Docket Numbers: ER22-558-000.

Applicants: Southwest Power Pool, Inc.

Description: § 205(d) Rate Filing: Revisions to Extend Tariff Administration between SPP and SPA through 06/30/2023 to be effective 1/1/2022.

Filed Date: 12/6/21.

Accession Number: 20211206-5097.

Comment Date: 5 p.m. ET 12/27/21.

Docket Numbers: ER22-559-000.

Applicants: Westlands Transmission, LLC.

Description: § 205(d) Rate Filing: Third Amended Transmission Service Agreement, Rate Schedule No. 1 to be effective 12/7/2021.

Filed Date: 12/6/21.

Accession Number: 20211206-5108.

Comment Date: 5 p.m. ET 12/27/21.

Docket Numbers: ER22-560-000.

Applicants: AEP Texas Inc.

Description: § 205(d) Rate Filing: AEPTX-STEC Second Amended and Restated Interconnection Agreement to be effective 2/6/2022.

Filed Date: 12/6/21.

Accession Number: 20211206-5136.

Comment Date: 5 p.m. ET 12/27/21.

Docket Numbers: ER22-561-000.

Applicants: PJM Interconnection, L.L.C.

Description: § 205(d) Rate Filing: AEP submits one FA with City of Danville re: SA No. 2104 to be effective 2/5/2022.

Filed Date: 12/6/21.

Accession Number: 20211206-5171.

Comment Date: 5 p.m. ET 12/27/21.

Docket Numbers: ER22-562-000.

Applicants: Assembly Solar, LLC.

Description: § 205(d) Rate Filing: SFA amendment filing 2021 to be effective 12/7/2021.

Filed Date: 12/6/21.

Accession Number: 20211206-5181.

Comment Date: 5 p.m. ET 12/27/21.

Docket Numbers: ER22-563-000.

Applicants: American Electric Power Service Corporation, Appalachian Power Company, PJM Interconnection, L.L.C.

Description: § 205(d) Rate Filing: American Electric Power Service Corporation submits tariff filing per 35.13(a)(2)(iii: AEP submits one FA with City of Danville re SA No. 2104 to be effective 2/5/2022.

Filed Date: 12/6/21.

Accession Number: 20211206-5194.

Comment Date: 5 p.m. ET 12/27/21.

Take notice that the Commission received the following qualifying facility filings:

Docket Numbers: QF21-629-001; EL21-89-000.

Applicants: Hecate Energy Blair Road LLC, Hecate Energy Blair Road LLC.

Description: Refund Report of Hecate Energy Blair Road LLC, et al.

Filed Date: 12/2/21.

Accession Number: 20211202-5274.

Comment Date: 5 p.m. ET 12/23/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2021.
Kimberly D. Bose,
Secretary.

[FR Doc. 2021-26748 Filed 12-9-21; 8:45 am]

BILLING CODE 6717-01-P